OFFICE OF PERSONNEL MANAGEMENT

Federal Salary Council; Meeting Notice

AGENCY: Office of Personnel Management.

ACTION: Notice of meeting.

SUMMARY: The Federal Salary Council will meet on Tuesday, November 13, 2018, at the time and location shown below. The Council is an advisory body composed of representatives of Federal employee organizations and experts in the fields of labor relations and pay policy. The Council makes recommendations to the President's Pay Agent (the Secretary of Labor and the Directors of the Office of Management and Budget and the Office of Personnel Management) about the locality pay program for General Schedule employees. The Council's recommendations cover the establishment or modification of locality pay areas, the coverage of salary surveys, the process of comparing Federal and non-Federal rates of pay, and the level of comparability payments that should be paid.

The Council will hear public testimony about the locality pay program, review the results of pay comparisons, and formulate its recommendations to the President's Pay Agent on pay comparison methods, locality pay rates, and locality pay areas and boundaries for 2020.

The meeting is open to the public. Individuals who wish to provide testimony or present material at the meeting should contact the Office of Personnel Management using the telephone number or email address provided below. In addition, please be aware that the Council asks that oral testimony at the meeting be limited to 5 minutes per speaker.

DATES: Tuesday, November 13, 2018, at 1:00 p.m.

ADDRESSES: Office of Personnel Management, 1900 E Street NW, Room 1350, Washington, DC 20415.

FOR FURTHER INFORMATION CONTACT: Brenda L. Roberts, Deputy Associate Director, Pay and Leave, Office of Personnel Management, 1900 E Street NW, Room 7H31, Washington, DC 20415-8200. Phone (202) 606-2838; FAX (202) 606-0824; or email at pay-leave-policy@opm.gov.

For The President's Pay Agent.
Alexys Stanley,
Regulatory Affairs Analyst.

[FR Doc. 2018-23630 Filed 10-29-18; 8:45 am]

BILLING CODE 6329-39-P